DEPARTMENT OF JUSTICE

Antitrust Division

Notice Pursuant to the National Cooperative Research and Production Act of 1993—Wireless Application Protocol Forum, Ltd. (“The WAP Forum”)

Notice is hereby given that, on January 13, 2000, pursuant to section 6(a) of the National Cooperative Research and Production Act of 1993, 15 U.S.C. 4301 et seq. (“the Act”), Wireless Application Protocol Forum, Ltd. (“the WAP Forum”) has filed written notifications simultaneously with the Attorney General and the Federal Trade Commission disclosing changes in its membership status. The notifications were filed for the purpose of extending the Act's provisions limiting the recovery of antitrust plaintiffs to actual damages under specified circumstances. Specifically, Allaire Corporation, Cambridge, MA; Amazon.com, Seattle, WA; Amdocs Ltd., Ra'anana, ISRAEL; AOL Europe, London, UNITED KINGSDOM; Art Technology Group, Cambridge, MA; Arthur Andersen LLP, Atlanta, GA; AU-System AB, Lund, SWEDEN; AvantGo, Inc., San Mateo, CA; Barnes and Noble.com, New York, NY; Brightpoint, Inc., Indianapolis, IN; Cable & Wireless Optus, Ltd., North Sydney, New South Wales, AUSTRALIA; CellPoint Systems AB, Sollentuna, SWEDEN; Conduit Software Ltd, Dublin, IRELAND; Consafe Infotech, Malmo, SWEDEN; Datenwerk, Vienna, AUSTRIA; DCI Gmbh, Starnberg, GERMANY; Dennotai Co., Ltd., Tokyo, JAPAN; Detencon, Bonn, GERMANY; Deutsche Bank AG, Eschborn, GERMANY; Earthport.com Plc, London, UNITED KINGDOM; Edify Corporation, Santa Clara, CA; EnCommerce, Inc., Santa Clara, CA; Everypath.Com, Inc., Santa clara, CA; eWare, Ltd., Dublin, IRELAND; eXaLink Ltd, Kfar Sava, ISRAEL; FST Fabbrica Servizi Telematici, Sarroch, ITALY; Fujitsu Limited, Yokohama, JAPAN; Gohead Software, Bellevue, WA; Guide Konsult, Solna, SWEDEN; GWcom Shangai, Santa Clara, CA; HiQ International, Stockholm, SWEDEN; InfoCell, Amman, JORDAN; INFOCOMM Inc., Taipei, TAIWAN; Infovention, Stockholm, SWEDEN; Interleaf Inc., Waltham, MA; Intrinsic Technology Limited (Shanghai), Shanghai, PEOPLE'S REPUBLIC OF CHINA; KG Telecommunications Co., Ltd., Taipei, TAIWAN; MicroStrategy Incorporated, Vienna, VA; Millenium Information Technologies, Colombo, SRI LANKA; Mitsui & Co., Ltd., Tokyo, JAPAN; @mobile Corp., Bellevue, WA; Mobilephone Telecommunications, Tokyo, JAPAN; Mobilesoft Pty Limited, Sydney, AUSTRALIA; NavaraSoft Ltd, Shannon, County Clare, IRELAND; Neomar, San Francisco, CA; Netegrity, Inc., Waltham, WA; Nettech Systems, Inc., Princeton, NJ; New Media Science/Linne Group, Oslo, NORWAY; NoTime Wireless, Halifax, Nova Scotia, CANADA; NTRU Cryptosystems, Inc., Boston, MA; Ogilvy Interactive Worldwide, New York, NY; OpenGrid Inc., Santa Clara, CA; Opt[e]way, Paris la Defense Cedex, FRANCE; Palm Reach, Stockholm, SWEDEN; ParaRede Technologies, Lisboa, PORTUGAL; Pixo, Inc., Cupertino, CA; Proteus, Inc., Washington, DC; Psion Computers Plc, London, UNITED KINGDOM; Quinary, Milan, ITALY; Real Names Corp., San Carlos, CA; Riverbed Technologies, Inc., Vienna, VA; Santama Interactive, Helsinki, FINLAND; ShopNow.com. Seattle, WA; Sigma AB, Malmo, SWEDEN; SignalSoft Corp., Boulder, CO; SinnerSchrader, Hamburg, GERMANY; Software AG, Darmstadt, GERMANY; Solid Information Technology, Ltd., Helsinki, FINLAND; Sybase, Inc., Waterloo, Ontario, CANADA; TD Waterhouse Group, Inc., New York, NY; ThinAirApps, New York, NY; TIBCO Software Inc., Palo Alto, CA; Time/system International, Allerod, DENMARK; VAST Solutions, Inc., Addison, TX; VeriFone, Santa Clara, CA; Vignette Corporation, Austin, TX; Visma ASA, Oslo, NORWAY; WIPRO Technologies—Global R&D, Bangalore, INDIA; Wireless Data Services, Ltd., Dorset, UNITED KINGDOM; Wysdom Inc., Richmond Hill, Ontario, CANDA; Xircom, Inc., Thousand Oaks, CA; Yamaha Corporation, Hamamatsu, JAPAN; and Zi Corporation, Hong Kong, PEOPLE'S REPUBLIC OF CHINA have been added as parties to this venture.

No other changes have been made in either the membership or planned activity of the group research project. Membership in this group research project remains open, and Wireless Application Protocol Forum, Ltd. (“The WAP Forum”) intends to file additional written notification disclosing all changes in membership.

On March 18, 1998, Wireless Application Portocol Forum, Ltd. (“The WAP Forum”) filed its original notification pursuant to section 6(a) of the Act. The Department of Justice published a notice in the Federal Register pursuant to section 6(b) of the Act on December 31, 1998 (63 FR 72333).

The last notification was filed with the Department on October 5, 1999. A notice has not yet been published in the Federal Register.

Constance K. Robinson,
Director of Operations, Antitrust Division.

[FR Doc. 00-16475 Filed 6-28-00; 8:45 am]

BILLING CODE 4410-11-M